DEPARTMENT OF ENERGY

Federal Energy Regulatory Commission

[Docket No. CP02-45-000]

Texas Eastern Transmission, LP; Notice of Application

December 17, 2001.

Take notice that on December 7, 2001, Texas Eastern Transmission, LP (Texas Eastern), 5400 Westheimer Court, Houston, Texas 77056-5310, filed in Docket No. CP02-45-000 an application pursuant to sections 7(b) and 7(c) of the Natural Gas Act for approval for it (i) to construct, own, operate, and maintain a 150-foot 20-inch diameter pipeline interconnect with Tennessee Gas Pipeline Company and 9.6 miles of 24-inch diameter lateral pipeline, three meter stations and three regulators and appurtenant facilities in Scioto County, Ohio and Lawrence County, Ohio; (ii) to implement a new lateral line only transportation service (Rate Schedule MLS-1) which is also proposed in Docket No. CP02-17-000; and (iii) to establish an incremental maximum recourse rate of $1.112 for service of 250,000 Dth/d to a proposed Duke Energy Hanging Rock, LLC (Hanging Rock) power plant in Lawrence County, Ohio under the new Rate Schedule MLS-1. The lateral has a design capacity of 288,920 Dth/d.

Copies of this filing are on file with the Commission and are available for public inspection. This filing may also be viewed on the web at http://www.ferc.gov using the “RIMS” link, select “Docket#” and follow the instructions (call 202-208-2222 for assistance). Any questions regarding the application should be directed to Steven E. Tillman, Director, Regulatory Affairs, at (713) 627-5044, (713) 627-5947 (Fax), Texas Eastern Transmission Corporation, P. O. Box 1642, Houston, Texas 77251-1642.

Texas Eastern requests that the Commission issue a final certificate by June 1, 2002. Texas Eastern says this is needed to allow it to complete construction of the proposed facilities to meet the November 1, 2002 date for test gas requested by Hanging Rock.

The proposed Rate Schedule MLS-1, included in Exhibit P of the application, will be available to any party requesting firm or interruptible transportation service on a portion of Texas Eastern's system designated as a Market Lateral. The proposed service will be provided as a “lateral line only” service with no transportation rights, secondary or otherwise, other than on the designated Market Lateral. The MLS-1 service will allow a firm contracting customer to designate in the MLS-1 Service Agreement the Maximum Daily Quantity (MDQ) and Maximum Hourly Quantity to be delivered, not to exceed the customer's MDQ for the Gas Day. A firm customer will be required to pay for any incremental facilities required to provide the customer's requested service. Firm customers under Rate Schedule MLS-1 will have secondary and capacity release rights only on the Market Lateral. The firm hourly rights will be applicable only as to flows between the Primary Receipt Point and Primary Delivery Point(s) on the Market Lateral. Hanging Rock will have non-firm hourly rates at other points on the lateral.

Texas Eastern says that the proposal will have no impact on rates charged to existing customers. The cost of the facilities is estimated to be $15,080,000. The maximum recourse rate for Hanging Rock's service pursuant to Rate Schedule MLS-1 is a 100 percent incremental reservation rate of $ 1.112 per Dth. This rate is based on proposed incremental facility costs with costs for the unsubscribed capacity of 33,920 Dth/d assigned to interruptible MLS-1 service. Texas Eastern says it has used its rate of return and other factors from Docket No. RP90-119 to derive this incremental rate. An adjustment was made to reflect the current 35% federal income tax rate.

There are two ways to become involved in the Commission's review of this project. First, any person wishing to obtain legal status by becoming a party to the proceedings for this project should, on or before January 7, 2002, file with the Federal Energy Regulatory Commission, 888 First Street, NE, Washington, DC 20426, a motion to intervene in accordance with the requirements of the Commission's rules of practice and procedure (18 CFR 385.214 or 385.211) and the regulations under the Natural Gas Act (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for appellate court review of Commission orders in the proceeding.

However, a person does not have to intervene in order to have their comments considered. The second way to participate is by filing with the Secretary of the Commission, as soon as possible, an original and two copies of comments in support of or in opposition to this project. The Commission will consider these comments in determining the appropriate action to be taken, but the filing of comments alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process.

Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. The Commission considers the extent to which the applicant may need to exercise eminent domain to obtain rights-of-way for the proposed project and balances that against the non-environmental benefits to be provided by the project. Therefore, if a person has comments on community and landowner impacts from this proposal, it is important either to file comments or to intervene as early in the process as possible. If the Commission decides to set the application for a formal hearing before an Administrative Law Judge, the Commission will issue another notice describing that process. At the end of the Commission's review process, a final Commission order approving or denying a certificate will be issued.

Comments, protests and interventions may be filed electronically via the Internet in lieu of paper. See, 18 CFR 385.2001(a)(1)(iii) and the instructions on the Commission's web site under the “e-Filing” link.

Linwood A. Watson, Jr.,
Acting Secretary.

[FR Doc. 01-31443 Filed 12-20-01; 8:45 am]

BILLING CODE 6717-01-P